DEPARTMENT OF TRANSPORTATION

Federal Aviation Administration

14 CFR Part 39

[Docket No. FAA-2012-0630; Directorate Identifier 2011-SW-010-AD; Amendment 39-17409; AD 2013-07-05]

RIN 2120-AA64

Airworthiness Directives; Eurocopter France Helicopters

AGENCY: Federal Aviation Administration (FAA), DOT.

ACTION: Final rule.

SUMMARY: We are adopting a new airworthiness directive (AD) for Eurocopter France EC130B4 helicopters. This AD requires visually checking the center windscreen panel (center windscreen) for a crack and replacing the center windscreen if there is a crack, if the windscreen distorts during flight, or within 12 months. This AD was prompted by in-flight cracking and failure of a center windscreen. The actions of this AD are intended to detect a crack in the blending radii of the center windscreen to prevent failure of the windscreen, injury to the flight crew, and subsequent loss of control of the helicopter.

DATES: This AD is effective May 15, 2013.

The Director of the Federal Register approved the incorporation by reference of a certain document listed in this AD as of May 15, 2013.

ADDRESSES: For service information identified in this AD, contact American Eurocopter Corporation, 2701 N. Forum Drive, Grand Prairie, TX 75052, telephone (972) 641-0000 or (800) 232-0323, fax (972) 641-3775, or at http://www.eurocopter.com/techpub. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Jim Grigg, Manager, Safety Management Group, Rotorcraft Directorate, FAA, 2601 Meacham Blvd., Fort Worth, TX 76137; telephone (817) 222-5110; email jim.grigg@faa.gov.

SUPPLEMENTARY INFORMATION:

Discussion

On June 18, 2012, at 77 FR 36213, the Federal Register published our notice of proposed rulemaking (NPRM), which proposed to amend 14 CFR part 39 to include an AD that would apply to Eurocopter France EC130B4 helicopters with a center windscreen, part number (P/N) 350A25-9004-00, 350A25-9025-00, or 350A25-9041-20. That NPRM proposed to require, before each flight, visually checking the center windscreen and replacing the center windscreen panel before further flight if there is a crack in the center windscreen panel or if the windscreen distorts during flight. The NPRM also proposed to require, within 12 months, replacing the center windscreen with a certain part-numbered windscreen, which would terminate the repetitive inspection requirements. The NPRM specified that an owner/operator (pilot) may perform the visual check and must enter compliance with the applicable paragraph into the helicopter maintenance records in accordance with 14 CFR 43.9(a)(1)-(4) and 91.417(a)(2)(v). A pilot may perform this check because it involves only a visual check for a crack in the center windscreen and can be performed equally well by a pilot or a mechanic. This authorization is an exception to our standard maintenance regulations. The proposed requirements were intended to detect a crack in the blending radii of the center windscreen to prevent failure of the windscreen, injury to the flight crew, and subsequent loss of control of the helicopter.

The European Aviation Safety Agency (EASA), which is the Technical Agent for the Member States of the European Union, issued EASA AD No. 2010-0258, dated December 6, 2010 (AD 2010-0258), to correct an unsafe condition for the Eurocopter France EC130B4 helicopters. EASA received reports that center windscreen panels failed during flights due to a crack that started in the blending radius between the lower and upper sections of the windscreen. EASA stated that this condition, if not detected and corrected, could result in serious injury of the helicopter occupants, and therefore, issued Emergency AD 2007-0219-E, dated August 24, 2007, (AD 2007-0219-E), requiring a pre-flight inspection of the center windscreen, repair or replacement of a cracked windscreen, and an airspeed limitation. In AD 2010-0258, EASA notes that it approved a modification (MOD 073590) for the EC130B4 helicopters that incorporates a newly designed center windscreen panel, part number (P/N) 350A25-9045-20, to “eliminate the possibility of centre windshield cracks thus providing an alternative terminating action for the preflight inspections.”

Comments

We gave the public the opportunity to participate in developing this AD, but we received no comments on the NPRM (77 FR 36213, June 18, 2012).

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs and that air safety and the public interest require adopting the AD requirements as proposed.

Differences Between This AD and the EASA AD

The EASA AD imposes flight restrictions and replacing the windscreen within 50 flight hours or 15 days, whichever occurs first, if distortion of the windscreen is detected in-flight. This AD mandates replacing the windscreen before further flight if distortion occurs during flight. In addition, this AD mandates MOD 073590 and replacing the affected windscreen with an airworthy windscreen, P/N 350A25-9045-20, within 12 months.

Related Service Information

We reviewed Eurocopter Emergency Alert Service Bulletin (ASB) No. 05A005 Revision 2, dated November 22, 2010. The ASB specifies:

• Performing a visual check of the center windscreen before each flight.

• Replacing any center windscreen before resuming flight if a crack is detected.

• If in-flight distortion is found, immediately restricting airspeed to 70 knots or below, and

○ If a crack is found, before next flight, replacing the windscreen per Eurocopter Service Bulletin 56-003, dated November 16, 2010, (SB 56-003), which describes procedures to perform MOD 073590, and

○ If no crack is found, affixing an airspeed limitation label and within 50 flying hours or 15 days, whichever is earlier, replacing the windscreen per MOD 073590.

• That incorporation of MOD 073590 is an alternative to the bulletin, relieving users of the inspection requirements.

EASA has classified this ASB as mandatory and issued AD 2010-0258 to ensure the continued airworthiness of these helicopters.

Costs of Compliance

We estimate that this AD will affect 87 helicopters of U.S. registry and that labor costs will average $85 per work-hour. Therefore, we estimate the following costs to comply with this AD:

• The check of the center windscreen before each flight will take about 15 minutes for a labor cost of $21.25 per inspection. No parts will be needed, so the total cost for the U.S. 87-helicopter fleet is about $1,849 per inspection.

• Replacing the center windscreen will require about 20 work-hours for a labor cost of $1,700 per helicopter. Parts will cost $6,037 for a total cost per helicopter of $7,737.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-07-05 Eurocopter France: Amendment 39-17409; Docket No. FAA-2012-0630; Directorate Identifier 2011-SW-010-AD.

(a) Applicability

This AD applies to Eurocopter France EC130B4 helicopters with center windscreen panel (center windscreen), part number (P/N) 350A25-9004-00, 350A25-9025-00, or 350A25-9041-20, certificated in any category.

(b) Unsafe Condition

This AD defines the unsafe condition as a crack in the blending radii of the center windscreen, which could lead to failure of the center windscreen, injury to the flight crew, and subsequent loss of control of the helicopter.

(c) Effective Date

This AD becomes effective May 15, 2013.

(d) Compliance

You are responsible for performing each action required by this AD within the specified compliance time unless accomplished previously.

(e) Required Actions

(1) Until the center windscreen is replaced with center windscreen P/N 350A25-9045-20, before each flight, visually check the center windscreen for a crack in the area of the blending radii where the front-lower part of the center windscreen joins the front fuselage as depicted in Figure 1 to paragraph (e)(1) of this AD. This visual check may be performed by the owner/operator (pilot) holding at least a private pilot certificate, and must be entered into the aircraft records showing compliance with this AD in accordance with Title 14 Code of Federal Regulations (14 CFR) 43.9 (a)(1)-(4) and 14 CFR 91.417(a)(2)(v). The record must be maintained as required by 14 CFR 91.417, 121.380, or 135.439.

BILLING CODE 4910-13-P

BILLING CODE 4910-13-C

(2) If there is a crack or if a pilot indicates that the center windscreen distorted during flight, before further flight, replace the center windscreen with an airworthy center windscreen, P/N 350A25-9045-20, in accordance with the Accomplishment Instructions, paragraphs 2.B.2.b. through 2.B.2.b.4., of Eurocopter Service Bulletin No. 56-003, Revision 0, dated November 16, 2010.

(3) Within 12 months, replace the center windscreen with an airworthy center windscreen, P/N 350A25-9045-20, in accordance with the instructions contained in paragraph (e)(2) of this AD.

(4) Replacing the center windscreen with center windscreen, P/N 350A25-9045-20, constitutes terminating action for the requirements of this AD.

(f) Special Flight Permits

Special flight permits may be issued in accordance with 14 CFR 21.197 and 21.199 to operate the helicopter to a location where the requirements of this AD can be accomplished, provided that:

(1) No passengers are onboard;

(2) The time to fly to the location does not exceed 10 hours time-in-service; and

(3) The airspeed does not exceed 70 knots indicated air speed (KIAS).

(g) Alternative Methods of Compliance (AMOCs)

(1) The Manager, Safety Management Group, FAA, may approve AMOCs for this AD. Send your proposal to: Jim Grigg, Manager, Safety Management Group, Rotorcraft Directorate, FAA, 2601 Meacham Blvd., Fort Worth, TX 76137; telephone (817) 222-5110; email jim.grigg@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

The subject of this AD is addressed in European Aviation Safety Agency AD No. 2010-0258, dated December 6, 2010.

(i) Subject

Joint Aircraft Service Component (JASC) Code: 5600, Window/Windshield System.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Eurocopter Service Bulletin No. 56-003, Revision 0, dated November 16, 2010.

(ii) Reserved.

(3) For Eurocopter service information identified in this AD, contact American Eurocopter Corporation, 2701 N. Forum Drive, Grand Prairie, TX 75052, telephone (972) 641-0000 or (800) 232-0323, fax (972) 641-3775, or at http://www.eurocopter.com/techpub.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on January 22, 2013.
Kim Smith,
Directorate Manager, Rotorcraft Directorate, Aircraft Certification Service.

[FR Doc. 2013-07932 Filed 4-9-13; 8:45 am]

BILLING CODE 4910-13-P